DEPARTMENT OF VETERANS AFFAIRS

[OMB Control No. 2900-0630]

Agency Information Collection (Regulation on Application for Fisher Houses and Other Temporary Lodging, VA Forms 10-0408 and 10-0408a)

AGENCY: Veterans Health Administration, Department of Veterans Affairs.

ACTION: Under OMB Review.

SUMMARY: In compliance with the Paperwork Reduction Act (PRA) of 1995 (44 U.S.C. 3501-3521), this notice announces that the Veterans Health Administration (VHA), Department of Veterans Affairs, will submit the collection of information abstracted below to the Office of Management and Budget (OMB) for review and comment. The PRA submission describes the nature of the information collection and its expected cost and burden and includes the actual data collection instrument.

DATES: Written comments and recommendations on the proposed collection of information should be received on or before February 13, 2015.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0630” in any correspondence. During the comment period, comments may be viewed online through the FDMS.

FOR FURTHER INFORMATION CONTACT: Crystal Rennie, Enterprise Records Service (005R1B), Department of Veterans Affairs, 810 Vermont Avenue NW., Washington, DC 20420, (202) 632-7492 or email crystal.rennie@va.gov. Please refer to “OMB Control No. 2900-0630” in any correspondence.

SUPPLEMENTARY INFORMATION: Titles: Regulation on Application for Fisher Houses and Other Temporary Lodging.

OMB Control Number: 2900-0630.

Type of Review: Revision of a currently approved collection.

Abstract: VA is mandated to establish a program for providing temporary lodging under section 221(a) of the Veterans Benefits and Health Care Act of 2000 (Pub. L. 106-419). These statutory provisions have been codified at 38 U.S.C. 1708 and are administered by the Veterans Health Administration (VHA) of VA. This program provides temporary lodging by veterans receiving VA medical care or C&P examinations and by family members or other persons accompanying veterans to provide the equivalent of familial support. If the veteran is undergoing extensive treatment or procedures, such as an organ transplant or chemotherapy, eligible persons may be furnished temporary lodging for the duration of the episode of care. Data is collected during the application process to determine eligibility for temporary lodging.

An agency may not conduct or sponsor, and a person is not required to respond to a collection of information unless it displays a currently valid OMB control number. The Federal Register Notice with a 60-day comment period soliciting comments on this collection of information was published at 79 FR 60587, October 7, 2014.

Affected Public: Individuals or households.

Estimated Total Annual Burden: 83,333.

Estimated Average Burden per Respondent: 10 minutes.

Frequency of Response: Yearly.

Estimated Number of Respondents: 250,000.

Dated: January 9, 2015.
By direction of the Secretary.
Crystal Rennie,
VA Clearance Officer, U.S. Department of Veterans Affairs.

[FR Doc. 2015-00440 Filed 1-13-15; 8:45 am]

BILLING CODE 8320-01-P